DEPARTMENT OF COMMERCE

U.S. Census Bureau

Proposed Information Collection; Comment Request; Annual Survey of School System Finances (Formerly Named Annual Survey of Local Government Finances—School Systems)

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 25, 2012.

ADDRESSES: Direct all written comments to Jennifer Jessup, Departmental Paperwork Clearance Officer, (202) 482-0336, Department of Commerce, Room 6616, 14th and Constitution Avenue NW., Washington, DC 20230 (or via the Internet at jjessup@doc.gov).

FOR FURTHER INFORMATION CONTACT: Requests for additional information or copies of the information collection instrument(s) and instructions should be directed to Jeremy Phillips, U.S. Census Bureau, Governments Division, 4600 Silver Hill Road, Washington, DC 20233-6800; (301) 763-5653.

SUPPLEMENTARY INFORMATION:

I. Abstract

The United States Census Bureau plans to request an extension to the current Office of Management and Budget clearance for the Annual Survey of School System Finances.

The Annual Survey of School System Finances is the only comprehensive source of public elementary-secondary school system finance data collected on a nationwide scale using uniform definitions, concepts, and procedures. The collection covers the revenues, expenditures, debt, and assets of all public elementary-secondary school systems. This data collection has been coordinated with the National Center for Education Statistics (NCES). The NCES uses this collection to satisfy its need for school finance data.

Fiscal data provided by respondents aid data users in measuring the effectiveness of resource allocation. The products of this data collection make it possible for data users to search a single database to obtain information on such things as per pupil expenditures and the percent of state, local, and federal funding for each school system. Elementary-secondary education related spending is the single largest financial activity of state and local governments. Education finance statistics provided by the Census Bureau allow for analyses of how public elementary-secondary school systems receive their funding and how they are spending their funds.

The forms and survey announcement used in the school finance portion of the survey are:

F-33 Survey Announcement. This letter is mailed electronically at the beginning of each survey period to solicit the assistance of the state education agencies. It establishes the conditions by which the state education agencies provide their school finance data to the Census Bureau.

Form F-33. This form contains item descriptions and definitions of the elementary-secondary education finance items collected jointly by the Census Bureau and NCES. It is used primarily as a worksheet and instruction guide by the state education agencies providing school finance data centrally for the school systems in their respective states. All states supply their data by electronic means. Revisions to this survey include the removal of the data item collecting Title V, Part A (Innovative Programs) revenue. (Funding for this federal program ended on September 30, 2009.) There may also be the removal of three data items collecting data for the American Recovery and Reinvestment Act funds. Once states are no longer able to collect or expend American Recovery and Reinvestment Act funds, those data items will be removed from the collection. The data items were added as non-substantial changes to the data collection after the previous OMB clearance, and collection began with fiscal year 2009 data.

Form F-33-L1. This is a supplemental form sent directly to school systems in states where the state education agencies cannot provide information on the assets of individual school systems. School systems have the choice to submit their data via paper, fax, or Internet.

Form F-33-L2. This is a supplemental form sent directly to school systems in states where the state education agency cannot provide information on the indebtedness of individual school systems. School systems have the choice to submit their data via paper, fax, or Internet.

Form F-33-L3. This is a supplemental form sent directly to school systems in states where the state education agency cannot provide information on both indebtedness and assets. This letter combines the items requested on the forms F-33-L1 and F-33-L2. School systems have the choice to submit their data via paper, fax, or Internet.

II. Method of Collection

The Census Bureau collects almost all of the finance data for local school systems from state education agency databases through central collection arrangements with the state education agencies. The states transfer most of this information in electronic format over the Internet via file transfer protocol. The Census Bureau has facilitated central collection of school system finance data by accepting data in multiple formats.

III. Data

OMB Control Number: 0607-0700.

Form Number: F-33, F-33-L1, F-33-L2 and F-33-L3.

Type of Review: Regular submission.

Affected Public: State and local governments.

Estimated Number of Respondents: 3,230.

Estimated Time per Response: 1.24 hours.

Estimated Total Annual Burden Hours: 3,990.

Estimated Total Annual Cost: $92,229.

Respondents Obligation: Voluntary.

Legal Authority: Title 13, U.S.C., Sections 161 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 20, 2012.
Glenna Mickelson,
Management Analyst, Office of the Chief Information Officer.

[FR Doc. 2012-7118 Filed 3-23-12; 8:45 am]

BILLING CODE 3510-07-P